POSTAL SERVICE

Notice of Intent To Prepare a Programmatic Environmental Assessment for Proposed Network Optimization, Nationwide; Notice of Public Scoping Period

AGENCY: Postal Service.

ACTION: Notice of intent to prepare a Programmatic Environmental Assessment; Notice of Public Scoping Period.

SUMMARY: To comply with the requirements of the National Environmental Policy Act (NEPA), the Postal Service intends to prepare a Programmatic Environmental Assessment (PEA) to assess the Network Optimization initiative (the “Proposed Action”), which would create a more streamlined processing and distribution network using fewer facilities to handle reduced mail volume. The proposal also includes revisions to mailing standards. This PEA will evaluate the environmental impacts of the proposed action versus taking no action. Public input is sought on the scope of environmental issues to be addressed in the PEA.

DATES: Written scoping comments must be submitted by October 30, 2011. It is estimated that the Programmatic Environmental Assessment will be completed by January 20, 2012.

ADDRESSES: Interested parties may submit written scoping comments or direct questions or requests for additional information to: Thomas G. Day, Chief Sustainability Officer, United States Postal Service, 475 L'Enfant Plaza, SW., Room 2737, Washington DC, 20260; (202) 268-7488.

SUPPLEMENTARY INFORMATION: Purpose. This notice concerns the Network Optimization initiative and the intent of the Postal Service, pursuant to the requirements of the National Environmental Policy Act (NEPA) of 1969, its implementing procedures at 39 CFR 775, and the President's Council on Environmental Quality Regulations (40 CFR Parts 1500-1508), to prepare a Programmatic Environmental Assessment to evaluate the environmental impacts of the proposed action versus taking “no action.”

Proposed Action. The Postal Service is exploring options to accelerate ongoing network optimization efforts. The recently announced Network Optimization initiative (herein referred to as the “Proposed Action”) seeks to create a more streamlined processing and distribution network, using fewer facilities to handle the reduced mail volume. This initiative also includes proposals to revise mailing standards to better reflect the capacity of a new, smaller network and may result in numerous mail processing facility closures and network consolidations. The Proposed Action will be addressed programmatically under the National Environmental Policy Act (NEPA).

The proposal under consideration includes studying nearly 250 processing facilities for possible consolidation or closure, reducing mail processing equipment by as much as 50 percent, dramatically decreasing the nationwide transportation network, adjusting the workforce size by as many as 35,000 positions, and revising service standards for mail services, including First-Class Mail from 1-3 days to 2-3 days.

Alternatives that will be evaluated by the Postal Service in the PEA include the above-described Proposed Action and a “No Action” alternative. Under the “No Action” alternative, the Postal Service would maintain its current processing and distribution network and service standards. The Postal Service may consider other reasonable alternatives identified during the public scoping process.

Additional information about the Network Optimization initiative, including a list of the facilities being studied for closure and consolidation, is located at the following URL: http://about.usps.com/news/electronic-press-kits/our-future-network/welcome.htm.

Hard copies of this information are available upon request.

Stanley F. Mires,
Attorney, Legal Policy & Legislative Advice.

[FR Doc. 2011-25331 Filed 9-30-11; 8:45 am]

BILLING CODE 7710-12-P